DEPARTMENT OF TRANSPORTATION

Pipeline and Hazardous Materials Safety Administration

[Docket No. PHMSA-2017-0091]

Pipeline Safety: Request for Special Permit; Hilcorp Alaska, LLC

AGENCY: Pipeline and Hazardous Materials Safety Administration (PHMSA), DOT.

ACTION: Notice.

SUMMARY: PHMSA is publishing this notice to solicit public comment on a request for special permit, seeking relief from compliance with certain requirements in the Federal Pipeline Safety Regulations. At the conclusion of the 30-day comment period, PHMSA will review the comments received from this notice as part of its evaluation to grant or deny the special permit request.

DATES: Submit any comments regarding this special permit request by November 14, 2018.

ADDRESSES: Comments should reference the docket number for the specific special permit request and may be submitted in the following ways:

• E-Gov website: http://www.Regulations.gov. This site allows the public to enter comments on any Federal Register notice issued by any agency.

• Fax: 1-202-493-2251.

• Mail: Docket Management System: U.S. Department of Transportation, Docket Operations, M-30, West Building Ground Floor, Room W12-140, 1200 New Jersey Avenue SE, Washington, DC 20590.

• Hand Delivery: Docket Management System: U.S. Department of Transportation, Docket Operations, M-30, West Building Ground Floor, Room W12-140, 1200 New Jersey Avenue SE, Washington, DC 20590, between 9:00 a.m. and 5:00 p.m., Monday through Friday, except Federal holidays.

Instructions: You should identify the docket number for the special permit request you are commenting on at the beginning of your comments. If you submit your comments by mail, please submit two copies. To receive confirmation that PHMSA has received your comments, please include a self-addressed stamped postcard. Internet users may submit comments at http://www.Regulations.gov.

Note: There is a privacy statement published on http://www.Reglations.gov. Comments, including any personal information provided, are posted without changes or edits to http://www.Regulations.gov.

FOR FURTHER INFORMATION CONTACT:

General: Ms. Kay McIver by telephone at 202-366-0113, or email at kay.mciver@dot.gov.

Technical: Mr. Joshua Johnson by telephone at 816-329-3825, or email at joshua.johnson@dot.gov.

SUPPLEMENTARY INFORMATION:

PHMSA received a special permit request from Hilcorp Alaska, LLC (Hilcorp) to deviate from the Federal Pipeline Safety Regulations (PSRs) in 49 CFR 195.563 and 195.573 for the design, construction, and operation and maintenance (O&M) of the proposed Liberty Pipeline. The PSRs require hazardous liquid (HL) pipeline operators to have cathodic protection to prevent external corrosion and to monitor the level of external corrosion control to ensure adequate protection from pipeline metal loss. Whereas Hilcorp is seeking a waiver from §§ 195.563 and 195.573, PHMSA proposes that Hilcorp conduct alternative integrity measures to maintain safety through the implementation of proposed special permit conditions.

The proposed Liberty Pipeline will originate on Liberty Drilling and Production Island (LDPI), an artificial island located in Foggy Island Bay of the Beaufort Sea Outer Continental Shelf and State of Alaska waters. The Liberty Pipeline consists of 7.2 miles of 12.75-inch diameter HL interstate pipeline (carrier pipeline) and will transport crude oil. The submerged portion of the Liberty Pipeline will utilize a pipe-in-pipe design (12.75-inch diameter carrier pipe installed within 16-inch casing pipe). The maximum water depth along the route is 19 feet at LDPI. The special permit request is for approximately 5.7 miles of the carrier pipeline located offshore in the Beaufort Sea.

The 5.7 miles of offshore carrier pipe will be installed in 16-inch casing pipe (pipe-in-pipe) to protect against crude oil spills from any leaks or other failures of the carrier pipeline. The pipe-in-pipe will be designed and constructed and O&M procedures will be implemented to prevent, monitor, and mitigate the creation of a corrosive environment and stresses that might occur through the operational life of the Liberty Pipeline. The pipe-in-pipe will be designed and operated as secondary containment against carrier pipeline crude oil in the segment located in offshore waters. The purpose of the special permit, with its implemented conditions, is to assure safety and environmental protection in lieu of compliance with §§ 195.563 and 195.573.

The maximum operating pressure of the carrier pipeline will be 1,480 pounds per square inch gauge (psig). The Liberty Pipeline will transport crude oil to and through the Badami and Endicott Pipelines and then to the Trans Alaska Pipeline System (TAPS). The TAPS will transport the Liberty Pipeline crude oil to a terminal in Valdez, Alaska, where tankers will then transport crude oil to the West Coast. The Liberty Pipeline will be installed in a remote area of Alaska that is not populated, in an area where federally listed threatened and/or endangered species exist and that is identified as an unusually sensitive area. Pipelines in such areas must be operated in compliance with the pipeline integrity management provisions as specified in 49 CFR 195.6, 195.450, and 195.452.

The proposed special permit and Draft Environmental Assessment (DEA) for the Liberty Pipeline are available in Docket No. PHMSA-2017-0091 at http://www.Regulations.gov for public review and comment. We invite interested persons to review and submit comments on the special permit request, DEA, and other background materials in the docket. Please include any comments on potential safety and environmental impacts that may result if the special permit is granted. Comments may include relevant data.

Before issuing a decision on the special permit request, PHMSA will evaluate all comments received on or before the comment closing date. Comments received after the closing date will be evaluated if it is possible to do so without incurring additional expense or delay. PHMSA will consider each relevant comment we receive in making our decision to grant or deny a request.

Issued in Washington, DC, on October 9, 2018, under authority delegated in 49 CFR 1.97.
Alan K. Mayberry,
Associate Administrator for Pipeline Safety.

[FR Doc. 2018-22299 Filed 10-12-18; 8:45 am]

BILLING CODE 4910-60-P